DEPARTMENT OF THE INTERIOR

Office of the Secretary

25 CFR Chapters I, II, III, V, VI, and VII

[156D0102DM DS6CS00000 DLSN00000.000000 DX6CS25]

Reducing Regulatory Burden; Retrospective Review

AGENCY: Office of the Secretary, Interior.

ACTION: Request for public input.

SUMMARY: The Department of the Interior is requesting public input on selected regulations as part of its plan to review significant regulations in response to the President's Executive Order on Improving Regulation and Regulatory Review.

DATES: Please submit any comments on or before July 13, 2015 for immediate consideration.

ADDRESSES: Submit comments only by one of the following methods:

Email: RegsReview@ios.doi.gov.

Mail: Regulatory Review, Office of the Executive Secretariat and Regulatory Affairs, Department of the Interior, 1849 C Street NW., Mail Stop 7328, Washington, DC 20240.

Hand Delivery or Courier: Regulatory Review, Office of the Executive Secretariat and Regulatory Affairs, Department of the Interior, Room 7311, 1849 C Street NW., Washington, DC 20240.

FOR FURTHER INFORMATION CONTACT: Mark Lawyer, Office of the Secretary, 202-208-3181, Mark_Lawyer@ios.doi.gov.

SUPPLEMENTARY INFORMATION: The Department of the Interior (DOI) published a notice on February 25, 2011 (76 FR 10526), asking the public for ideas and information as it prepared a preliminary plan for retrospective regulatory review to comply with President Obama's Executive Order 13563 dated January 18, 2011, “Improving Regulation and Regulatory Review.” We received helpful information in response to this request, which we considered in preparing our plan for retrospective regulatory review. The plan is available on DOI's Open Government Web site at: http://www.doi.gov/open/regsreview/. This Web site provides links to the plan, the Department's regulations, and an email in-box at RegsReview@ios.doi.gov that interested parties may use to suggest, on an ongoing basis, improvements to DOI's regulations.

We continue to invite comment on all of our regulations but are specifically asking for public comment on the following regulations or policy documents at this time:

25 CFR part 169—Rights-of-Way on Indian Land (1076-AF20)

25 CFR part 23—Indian Child Welfare Act (1076-AF25)

25 CFR part 256—Housing Improvement Program (1076-AF22)

Expanding Incentives for Voluntary Conservation Actions Under the Endangered Species Act (1018-AY29)

Ongoing Public Engagement

DOI views retrospective regulatory review as a continuing process. Public engagement is an essential element, and the public may submit feedback at any time via email at RegsReview@ios.doi.gov.

At this time, we are asking for comments related to the following questions:

(1) Are there any specific changes we could make to these regulations that would make them more effective or less burdensome in achieving their regulatory objectives?

(2) DOI has proposed specific rules to review over the next two years. Are there other rules that could benefit from retrospective review in the near future? If so, please identify the rules by their CFR citation (e.g., 25 CFR part 39) or by their subject matter (e.g., forestry rules) and give us detailed ideas on how we can streamline, consolidate, or make these regulations more efficient. Please suggest specific language that would make these rules or guidance more efficient and less burdensome where possible.

(3) Are there ways DOI can better scale its regulations to lessen the burdens imposed on small entities within the existing statutory requirements? Please suggest specific things we could do to exempt small entities or provide more flexible or less-burdensome requirements while still satisfying the requirements of the law.

(4) Are DOI regulations and guidance written in language that is clear and easy to understand? Please suggest which regulations and guidance are good candidates for a rewriting in plain language.

(5) How can we ensure that our regulations promote our mission in ways that are most efficient and least burdensome to the public?

The Department is issuing this request solely to seek useful information as part of its ongoing public engagement process. Responses to this request do not bind DOI to any further actions related to the response.

Before including your address, or other personal identifying information in your comment, you should be aware that your entire comment—including your personal identifying information—may be made publicly available at any time pursuant to the Freedom of Information Act. While you can ask us in your comment to withhold your personal identifying information from the public review, we would seek to honor your request to the extent allowable under the law but we cannot guarantee that we will be able to do so.

Authority: E.O. 13653, 76 FR 3821, Jan. 21, 2011; E.O. 12866, 58 FR 51735, Oct. 4, 1993.

Dated: May 20, 2015.
Michael L. Connor,
Deputy Secretary.

[FR Doc. 2015-12622 Filed 5-22-15; 8:45 am]

BILLING CODE 4334-34-P